SECURITIES AND EXCHANGE COMMISSION

[File No. 500-1]

In the Matter of Carbiz, Inc., InZon Corporation, IQ Micro, Inc., Irwin Financial Corporation, and Princeton Media Group, Inc.; Order of Suspension of Trading

September 12, 2013.

It appears to the Securities and Exchange Commission that there is a lack of current and accurate information concerning the securities of Carbiz, Inc. because it has not filed any periodic reports since the period ended October 31, 2009.

It appears to the Securities and Exchange Commission that there is a lack of current and accurate information concerning the securities of InZon Corporation because it has not filed any periodic reports since the period ended June 30, 2008.

It appears to the Securities and Exchange Commission that there is a lack of current and accurate information concerning the securities of IQ Micro, Inc. because it has not filed any periodic reports since the period ended June 30, 2007.

It appears to the Securities and Exchange Commission that there is a lack of current and accurate information concerning the securities of Irwin Financial Corporation because it has not filed any periodic reports since the period ended June 30, 2009.

It appears to the Securities and Exchange Commission that there is a lack of current and accurate information concerning the securities of Princeton Media Group, Inc. because it has not filed any periodic reports since the period ended December 31, 2006.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 12, 2013, through 11:59 p.m. EDT on September 25, 2013.

By the Commission.
Jill M. Peterson,
Assistant Secretary.

[FR Doc. 2013-22553 Filed 9-12-13; 4:15 pm]

BILLING CODE 8011-01-P